DEPARTMENT OF HEALTH AND HUMAN SERVICES

National Institutes of Health

Proposed Collection; 60-day Comment Request: The Atherosclerosis Risk in Communities Study (ARIC)

Summary: In compliance with the requirement of Section 3506(c) (2) (A) of the Paperwork Reduction Act of 1995, for opportunity for public comment on proposed data collection projects, the National Heart, Lung and Blood Institute (NHLBI), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Dr. Jacqueline Wright, 6701 Rockledge, Epidemiology Branch, Program in Prevention and Population Sciences, Division of Cardiovascular Sciences, National Heart, Lung, and Blood Institute, National Institutes of Health, 6701 Rockledge Dr., MSC 7936, Bethesda, MD 20892-7936, or call non-toll-free number 301-435-0384, or Email your request, including your address to jacqueline.wright@nih.gov. Formal requests for additional plans and instruments must be requested in writing.

Comment Due Date: Comments regarding this information collection are best assured of having their full effect if received within 60 days of the date of this publication.

Proposed Collection: The Atherosclerosis Risk in Communities Study (ARIC),—Revised, National Heart, Lung and Blood Institute (NHLBI), National Institutes of Health (NIH).

Need and Use of Information Collection: The purpose and use of the information collection for this project is to examine the major factors contributing to the occurrence of and the trends for cardiovascular diseases among men, women, African Americans and white persons in four U.S. communities: Forsyth County, North Carolina; Jackson, Mississippi; suburbs of Minneapolis, Minnesota; and Washington County, Maryland. The cohort in Jackson is selected to represent only African American residents of the city. The primary objectives of the study are to: (1) investigate factors associated with both atherosclerosis and clinical cardiovascular diseases and (2) measure occurrence of and trend in coronary heart disease (CHD) and heart failure and relate them to community levels of risk factors, medical care, and atherosclerosis.

OMB approval is requested for 3 years. There are no costs to respondents other than their time. The total estimated annualized burden hours are 15,714.

Estimated Annualized Burden Hours
Type of response | Number of respondents | Frequency of responses | Time per response (hours) | Burden (hours)
Participant
Semiannual phone follow-up interview (Attachment 1) | 10,049 | 6 | 15/60 | 15,074
Non-Participant
a. Physician contact for CHD deaths (Attachment 2) | 690 | 1 | 10/60 | 115
b. Coroner contact for CHD deaths (Attachment 2) | 570 | 1 | 10/60 | 95
c. Informant contact (Attachment 2) | 1,200 | 1 | 10/60 | 200
d. Physician contact for out-of-hospital heart failure (Attachment 2) | 2,760 | 1 | 5/60 | 230

Dated: December 4, 2013.
Michael Lauer,
Director, DCVS, NHLBI, NIH.
Lynn Susulske,
NHLBI Project Clearance Liaison, National Institutes of Health.

[FR Doc. 2013-30302 Filed 12-19-13; 8:45 am]

BILLING CODE 4140-01-P